ENVIRONMENTAL PROTECTION AGENCY

[EPA-HQ-OPP-2021-0287; EPA-HQ-OPP-2021-0288; FRL-10022-67]

Agency Information Collection Activities; Proposed Renewal of Two Currently Approved Collections; Comment Request

AGENCY: Environmental Protection Agency (EPA).

ACTION: Notice.

SUMMARY: In compliance with the Paperwork Reduction Act (PRA), this document announces that EPA is planning to submit requests to renew two currently approved Information Collection Request (ICR) to the Office of Management and Budget (OMB). The ICRs are identified in this document by their corresponding titles, EPA ICR numbers, OMB Control numbers, and related docket identification (ID) numbers. Before submitting these ICRs to OMB for review and approval, EPA is soliciting comments on specific aspects of the information collection activities that are summarized in this document. The ICRs and accompanying material are available for public review and comment in the relevant dockets identified in this document for the ICR.

DATES: Comments must be received on or before August 30, 2021.

ADDRESSES: Submit your comments, identified by the docket identification (ID) number for the corresponding ICR as identified in this document, online using the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is closed to visitors with limited exceptions. The staff continues to provide remote customer service via email, phone, and webform. For the latest status information on EPA/DC and docket access, visit https://www.epa.gov/dockets.

FOR FURTHER INFORMATION CONTACT: Carolyn Siu, Mission Support Division 7101M, Office of Program Support, Environmental Protection Agency, 1200 Pennsylvania Ave. NW, Washington, DC 20460-0001; telephone number: (703) 347-0159; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. Identify the docket ID number assigned to the ICR action in the subject line on the first page of your response. You may also provide the ICR title and related EPA and OMB numbers.

III. What do I need to know about the PRA?

An Agency may not conduct or sponsor, and a person is not required to respond to, a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. Which ICRs are being renewed?

EPA is planning to submit two currently approved ICRs to OMB for review and approval under the PRA. In addition to specifically identifying the ICRs by title and corresponding ICR, OMB and docket ID numbers, this unit provides a brief summary of the information collection activity and the Agency's estimated burden. The Supporting Statement for each ICR, a copy of which is available in the corresponding docket, provides a more detailed explanation.

A. Docket ID Number EPA-HQ-OPP-2021-0288

Title: Certification of Pesticide Applicators.

ICR number: EPA ICR No. 0155.14.

OMB control number: OMB Control No. 2070-0029.

ICR status: The approval for this ICR is scheduled to expire on December 31, 2022.

Abstract: EPA administers certification programs for pesticide applicators under section 11 of the Federal Insecticide, Fungicide, and Rodenticide Act (FIFRA). FIFRA allows EPA to classify a pesticide as “restricted use” if the pesticide meets certain toxicity or risk criteria. The regulations in 40 CFR part 171 include procedures for certification programs for States, Federal agencies, Indian tribes, or U.S. territories who wish to develop and implement their own certification plans and programs, after obtaining EPA approval. This ICR addresses the paperwork activities performed by businesses, individuals and regulators to comply with training and certification requirements associated with applicators of restricted use pesticides (RUPs). Because of the potential of improperly applied RUPs to harm human health or the environment, pesticides under this classification may be purchased and applied only by “certified applicators” or by persons under the direct supervision of certified applicators. To become a certified applicator, a person must meet certain standards of competency; these standards are met through completion of a certification program or test. The additional information requirements contained in the January 4, 2017 final rule (82 FR 952; RIN 2070-AJ20) that amended the regulations at 40 CFR part 171 are addressed in another ICR that is currently approved under OMB Control No. 2070-0196.

All 50 states, the District of Columbia, American Samoa, Cheyenne River Sioux, Guam, Commonwealth of the Northern Mariana Islands, Oglala Sioux, Puerto Rico, Republic of Palau, Shoshone-Bannock Tribe Affiliated Tribes and U.S. Virgin Islands as well as the U.S. Department of Defense, the U.S. Department of the Interior, the U.S. Department of Energy and the U.S. Department of Agriculture (USDA)(USDA, APHIS/PPQ and USDA Forest Service) administer applicator certification programs within their jurisdictions, but each agency's certification plan must be approved by EPA before it can be implemented. Agencies authorized by EPA to administer a certification program are collectively referred to in this document as “authorized agencies.” Currently all 50 states, the District of Columbia, 6 territories, 4 tribes and 5 federal agencies are authorized to run their own certification programs. Under authorized agencies' certification programs, dealerships of RUP are not required to report their dealership information and RUP sales directly to EPA, and such information is not included in the paperwork burden estimates of this ICR.

In areas where no authorized agency has jurisdiction, EPA may administer a certification program directly, called a Federal program. Federal certification programs require RUP dealers to maintain records of RUP sales and to report and update their names and addresses with the pesticide regulatory agency for enforcement purposes. Starting in 2007 and in 2014 respectively, the Agency implemented EPA-administered applicator certification programs for Indian Country and for Navajo Nation (79 FR 7185-89). Under the EPA plan for Indian Country, dealerships operating in Indian Country are required to report their dealership and individual business names and addresses to EPA Regional offices.

This ICR also addresses how registrants of certain pesticide products are expected to perform specific, special paperwork activities, such as training and recordkeeping, in order to comply with the terms and conditions of the pesticide registration (e.g., registrants of anthrax-related pesticide products that assert claims to inactivate Bacillus anthracis (anthrax) spores). Paperwork activities associated with the use of such products are conveyed specifically as a condition of the registration.

Burden statement: The annual public reporting and recordkeeping burden for this collection of information is estimated to average 1,379,443.81 hours per response. The ICR, a copy of which is available in the docket, provides a detailed explanation of this estimate, which is only briefly summarized here:

Respondents/Affected entities: Entities potentially affected by this ICR include pesticide applicators, administration of certification programs by States/Tribal lead agencies (authorized agencies), individuals or entities engaged in activities related to the registration of a pesticide product, and RUP dealers (only for EPA administrated programs).

Estimated total number of potential respondents: 444,639 (total).

Frequency of response: On occasion.

Estimated total average number of responses for each respondent: Varies.

Estimated total annual burden hours: 1,379,444 hours (annual).

Estimated total annual costs: $57,047,143.94. This includes an estimated burden cost of $57,047,143.94 and an estimated cost of $0 for non-burden hour paperwork costs, e.g., investment or maintenance and operational costs.

Changes in the estimates from the last approval: The renewal of this ICR will result in neither a decrease nor increase of hours in the total estimated respondent burden identified in the currently approved ICR. Since the Agency is renewing this ICR as is, the total estimated respondent burden for this renewal ICR remains the same at 59,190 hours. The only adjustments calculated is the cost in burden which is made to reflect the latest wage labor rates (BLS 2019). These changes are adjustments.

In addition, OMB has requested that EPA move towards using the 18-question format for ICR Supporting Statements used by other federal agencies and departments and is based on the submission instructions established by OMB in 1995, replacing the alternate format developed by EPA and OMB prior to 1995. EPA intends to update this Supporting Statement during the comment period to reflect the 18-question format, and has included the questions in an attachment to this Supporting Statement. In doing so, the Agency does not expect the change in format to result in substantive changes to the information collection activities or related estimated burden and costs.

B. Docket ID Number EPA-HQ-OPP-2021-0287

Title: Pesticides; Certification of Pesticide Applicators; Final Rule [RIN 2070-AJ20].

ICR number: EPA ICR No. 2499.03.

OMB control number: OMB Control No. 2070-0196.

ICR status: The approval for this ICR is scheduled to expire on February 28. 2022.

Abstract: This ICR amendment covers the revisions contained in thea final rule “Certification of Pesticide Applicators” (Certification rule) at 40 CFR part 171, which regulates the certification of applicators of RUPs. This ICR estimates the incremental burden of revised requirements applicable under the PRA, that are not already included in the ICR “Certification of Pesticide Applicators” covering 40 CFR part 171 prior to the new final rule. That ICR, which this ICR amends, was currently-approved by the OMB at the time this ICR was submitted to OMB with the final rule, and is termed the “existing ICR” in this document.

The existing regulation (prior to the new final rule) has provisions for states, the District of Columbia (DC), tribes, territories, and federal agencies that wish to certify applicators to use RUPs, to submit certification plans to EPA for review and approval, and requirements to report specific information related to applicator certification activities annually. The regulation has standards of competency for persons who are certified to apply RUPs, as well as requirements related to noncertified applicators who apply RUPs under the direct supervision of certified applicators. In addition, it already requires pesticide retail dealers to maintain records of RUP sales in areas where the EPA administers an applicator certification program.

The final rule is intended to improve the competency of certified applicators of RUPs and noncertified applicators who apply RUPs under the direct supervision of certified applicators. The final rule includes new and revised standards for certification for commercial and private applicators, provisions for recertification of applicators, and training for noncertified applicators applying RUPs under the supervision of certified applicators. The revisions also include changes to improve the clarity and organization of the rule and overall program operation. The proposed changes to the regulation are intended to ensure that all persons who use RUPs—i.e., private applicators, commercial applicators, and noncertified applicators using RUPs under the direct supervision of certified applicators—are competent to use RUPs in a manner that will not result in unreasonable adverse effects to themselves, others, or the environment.

This amendment ICR estimates the burden and costs of the final rule changes related to information collection and includes: Training for noncertified applicators applying RUPs under the direct supervision of certified applicators, recordkeeping of the noncertified applicator training, recordkeeping of RUP sales by pesticide dealerships under certification programs not administered by the EPA, and burden to states, DC, territories, tribes, and federal agencies to revise certification plans as needed to comply with the revised requirements.

The following sections provide a general overview of the paperwork requirements in the final rule; burden and cost estimates are found in section 6.

Burden statement: The annual public reporting and recordkeeping burden for this collection of information is estimated to average 2,280,849 hours per response. The ICR, a copy of which is available in the docket, provides a detailed explanation of this estimate, which is only briefly summarized here:

Respondents/Affected entities: Entities potentially affected by this ICR include Agricultural Establishments, Nursery and Tree Production, Agricultural Pest Control and Pesticide Handling on Farms and Crop Advisors, Agricultural (animal) Pest Control (livestock spraying), Forestry Pest Control, Wood Preservation Pest Control, Pesticide Registrants, Pesticide Dealers, Research & Demonstration Pest Control and Crop Advisor, Ornamental & Turf, Rights-of-Way Pest Control, Environmental Protection Program Administrators, and Governmental Pest Control Programs.

Estimated total number of potential respondents: 1,860,974.

Frequency of response: On occasion.

Estimated total average number of responses for each respondent: 195.

Estimated total annual burden hours: 2,280,849 hours.

Estimated total annual costs: $108,061,898. This includes an estimated burden cost of $108,061,898 and an estimated cost of $0 for non-burden hour paperwork costs, e.g., investment or maintenance and operational costs.

Changes in the estimates from the last approval: The renewal of this ICR will result in neither a decrease nor increase of hours in the total estimated respondent burden identified in the currently approved ICR. Since the Agency is renewing this ICR as is, the total estimated respondent burden for this renewal ICR remains the same at 2,280,849 hours. The only adjustments calculated is the cost in burden which is made to reflect the latest wage labor rates (BLS 2019). These changes are adjustments.

In addition, OMB has requested that EPA move towards using the 18-question format for ICR Supporting Statements used by other federal agencies and departments and is based on the submission instructions established by OMB in 1995, replacing the alternate format developed by EPA and OMB prior to 1995. EPA intends to update this Supporting Statement during the comment period to reflect the 18-question format, and has included the questions in an attachment to this Supporting Statement. In doing so, the Agency does not expect the change in format to result in substantive changes to the information collection activities or related estimated burden and costs.

IV. What is the next step in the process for these ICRs?

EPA will consider the comments received and amend the individual ICRs as appropriate. The final ICR packages will then be submitted to OMB for review and approval pursuant to 5 CFR 1320.12. EPA will issue another Federal Register document pursuant to 5 CFR 1320.5(a)(1)(iv) to announce the submission of these ICRs to OMB and the opportunity for the public to submit additional comments for OMB consideration. If you have any questions about any of these ICRs or the approval process in general, please contact the person listed under FOR FURTHER INFORMATION CONTACT.

Authority: 44 U.S.C. 3501 et seq.

Dated: June 24, 2021.
Michal Freedhoff,
Assistant Administrator, Office of Chemical Safety and Pollution Prevention.

[FR Doc. 2021-13894 Filed 6-29-21; 8:45 am]

BILLING CODE 6560-50-P